FEDERAL COMMUNICATIONS COMMISSION

Notice of Public Information Collection(s) being Submitted to OMB for Review and Approval

May 12, 2004.

SUMMARY: The Federal Communications Commissions, as part of its continuing effort to reduce paperwork burden invites the general public and other Federal agencies to take this opportunity to comment on the following information collection, as required by the Paperwork Reduction Act of 1995, Pub. L. 104-13. An agency may not conduct or sponsor a collection of information unless it displays a currently valid control number. No person shall be subject to any penalty for failing to comply with a collection of information subject to the Paperwork Reduction Act (PRA) that does not display a valid control number. Comments are requested concerning (a) whether the proposed collection of information is necessary for the proper performance of the functions of the Commission, including whether the information shall have practical utility; (b) the accuracy of the Commission's burden estimate; (c) ways to enhance the quality, utility, and clarity of the information collected; and (d) ways to minimize the burden of the collection of information on the respondents, including the use of automated collection techniques or other forms of information technology.

DATES: Written comments should be submitted on or before July 1, 2004. If you anticipate that you will be submitting comments, but find it difficult to do so within the period of time allowed by this notice, you should advise the contact listed below as soon as possible.

ADDRESSES: Direct all comments to Les Smith, Federal Communications Commission, Room 1-A804, 445 12th Street, SW., Washington, DC 20554 or via the Internet to Leslie.Smith@fcc.gov or Kim A. Johnson, Office of Management and Budget (OMB), Room 10236 NEOB, Washington, DC 20503, (202) 395-3562 or via Internet at Kim_A._Johnson@omb.eop.gov.

FOR FURTHER INFORMATION CONTACT: For additional information or copies of the information collections contact Les Smith at (202) 418-0217 or via the Internet at Leslie.Smith@fcc.gov.

SUPPLEMENTARY INFORMATION: OMB Control Number: 3060-1033.

Title: Multi-Channel Video Program Distributor EEO Program Annual Report, FCC Form 396-C.

Form Number: FCC 396-C.

Type of Review: Extension of a currently approved collection.

Respondents: Business or other for-profit entities; Not-for-profit institutions.

Number of Respondents: 2,200.

Estimated Hours per Response: 0.166 to 2.5 hours.

Frequency of Response: Recordkeeping; Annual and five-year reporting requirements.

Total Annual Burden: 3,188 hours.

Total Annual Cost: None.

Privacy Impact Assessment: No impact(s).

Needs and Uses: The FCC Form 396-C is a collection device used to assess compliance with the Equal Employment Opportunity (EEO) program requirements by Multi-channel Video programming Distributors (MPVDs). It is publicly filed to allow interested parties to monitor a MPVD's compliance with the Commission's EEO requirements.

OMB Control Number: 3060-1049.

Title: Digital Broadcast Content Protection, MB Docket No. 02-230.

Type of Review: Extension of currently approved collection.

Form Number: N/A.

Respondents: Business or other for-profit entities.

Number of Respondents: 1,520.

Estimated Hours per Response: 2 to 40 hours.

Frequency of Response: On occasion reporting requirements.

Total Annual Burden: 3,800 hours.

Total Annual Cost: None.

Privacy Impact Assessment: No impact(s).

Needs and Uses: On November 4, 2003, the FCC released the Report and Order and Further Notice of Proposed Rulemaking (“Order”), In the Matter of Digital Broadcast Content Protection, MB Docket No. 02-230, FCC 03-273. The Order established a redistribution control content protection system for digital broadcast television in order to prevent the widespread indiscriminate redistribution of high value digital broadcast content and to assure the continued availability of such content to broadcast outlets. The Order adopted the use of an ATSC flag, which can be imbedded in DTV content to signal to consumer electronics devices to protect such content from indiscriminate redistribution. In order for this protection system to work, demodulators integrated within, or produced for use in, DTV reception devices, including PC and IT products, (“Covered Demodulator Products”) must recognize and give effect to the ATSC flag pursuant to certain compliance and robustness rules. In particular, content that is marked with the ATSC flag must be handled in a protected fashion through the use of digital content protection and recording technologies. In order to ensure that digital content is being adequately protected, such technologies must be reviewed and approved for use. The Order established interim procedures by which proponents of digital content protection and recording technologies can certify to the Commission that such technologies are appropriate for use in Covered Demodulator Products, subject to public notice and comment.

To facilitate enforcement and compliance, the Order adopted a written commitment regime whereby manufacturers or importers of ATSC demodulators obtain from buyers of such products a written commitment that they will incorporate such demodulators into compliant and robust devices or sell or distribute them to third parties that have also made such written commitment. The Order also adopted a written commitment regime to ensure that manufacturers or importers of Peripheral TSP Products (products where the demodulator and transport stream processor are physically separate) will abide by the Demodulator Products compliance and robustness rules.

The interim approval process for digital content protection and recording technologies and the written commitment regime are essential components of the Commission's redistribution control content protection system for digital broadcast television. These information collections ensure objectivity and transparency as a part of this process.

Federal Communications Commission.
William F. Caton,
Deputy Secretary.

[FR Doc. 04-12279 Filed 5-28-04; 8:45 am]

BILLING CODE 6712-01-P